NATIONAL AERONAUTICS AND SPACE ADMINISTRATION

[Notice 00-053]

NASA Advisory Council; Meeting

AGENCY: National Aeronautics and Space Administration.

ACTION: Notice of meeting.

SUMMARY: In accordance with the Federal Advisory Committee Act, Pub. L. 92-463, as amended, the National Aeronautics and Space Administration announces a meeting of the NASA Advisory Council.

DATES: Tuesday, June 6, 2000, 8 a.m. to 5 p.m.; and Wednesday, 7, 2000, 8 a.m. to 10 p.m.

ADDRESSES: The Williamsburg Hospitality House, 415 Richmond Road, Williamsburg, VA 23185.

FOR FURTHER INFORMATION CONTACT: Ms. Kathy Dakon, Code Z, National Aeronautics and Space Administration, Washington, DC 20546, 202/358-0732.

SUPPLEMENTARY INFORMATION: The meeting will be open to the public up to the seating capacity of the room. The agenda for the meeting is as follows:

—Mars Program Independent Assessment Team

—NASA Integrated Action Team

—NASA Intelligent Synthesis Enviroment Program

—NASA Strategic Plan

—Aviation Safety Program Update

—Aerospace System Concepts & Analysis

—Committee/TaskForce/Working Group Reports

—Discussion of Findings and Recommendations

It is imperative that the meeting be held on these dates to accommodate the scheduling priorities of the key participants. Visitors will be requested to sign a visitor's register.

Dated: May 17, 2000.
Matthew M. Crouch,
Advisory Committee Management Officer, National Aeronautics and Space Administration.

[FR Doc. 00-13349 Filed 5-26-00; 8:45 am]

BILLING CODE 7510-01-P